DEPARTMENT OF THE INTERIOR

National Park Service

[NPS-WASO-NAGPRA-10272: 2200-1100-665]

Notice of Intent To Repatriate Cultural Items: Tennessee Valley Authority and the University of Tennessee McClung Museum, Knoxville, TN

AGENCY: National Park Service, Interior.

ACTION: Notice.

SUMMARY: The Tennessee Valley Authority (TVA) and the University of Tennessee McClung Museum (McClung Museum), in consultation with the appropriate Indian tribes, have determined that the cultural items meet the definition of unassociated funerary objects, and repatriation to the Indian tribes identified below may occur if no additional claimants come forward. Representatives of any Indian tribe that believes itself to be culturally affiliated with the cultural items may contact the TVA and McClung Museum.

DATES: Representatives of any Indian tribe that believes it has a cultural affiliation with the cultural items should contact the TVA at the address below by July 5, 2012.

ADDRESSES: Dr. Thomas O. Maher, TVA, 400 West Summit Hill Drive, WT 11D, Knoxville, TN 37902-1401, telephone (865) 632-7458.

SUPPLEMENTARY INFORMATION: Notice is here given in accordance with the Native American Graves Protection and Repatriation Act (NAGPRA), 25 U.S.C. 3005, of the intent to repatriate cultural items under the control of the TVA and in the custody of the McClung Museum that meet the definition of unassociated funerary objects under 25 U.S.C. 3001(3)(B).

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the summer of 1965, 1 lot of unassociated funerary objects were removed from burial unit 8 at the Westmoreland-Barber site, 40MI11, in Marion County, TN. The Westmoreland-Barber site is located at river mile 429 on the Tennessee River. Archeological excavations at Westmoreland-Barber were stimulated by the TVA's construction of the Nickajack Dam and the impending inundation of the resulting reservoir. In August 1964, the University of Tennessee (UT) under the direction of J.B. Graham and under contract with the National Park Service (NPS), excavated sites located within the confines of the proposed Nickajack Reservoir, including site 40MI11. A second season of excavations by UT took place from June 29 to August 18, 1965, at the Westmoreland-Barber site, under a contract with the NPS. The excavation of burial units 5 through 17 took place after the TVA completed the process of purchasing the land tracts where the burial units are located.

One historic burial, burial unit 8, was excavated during the second season. Although disturbed by agricultural plowing, UT archaeologists concluded at the time that the individual in the burial was laid to rest around 1775 and the remains were likely associated with the historically known 18th century Cherokee Lower Town occupation in this area. The human remains from burial unit 8 are no longer present in the McClung Museum. As these remains are no longer in the possession of the TVA or the McClung Museum, the funerary objects from burial unit 8 are now considered unassociated. These objects include 1 string of glass beads (approximately 329 beads), 1 string of tubular shell beads (approximately 39 beads), approximately 5 silver rings or spirals, approximately 6 silver cones or tinklers, 1 shell spoon, 40 ceramic sherds, 1 chert scraper, 5 utilized chert flakes, and 12 unutilized chert flakes.

Determinations Made by the TVA and the McClung Museum

Officials of the TVA and McClung Museum have determined that:

• Pursuant to 25 U.S.C. 3001(3)(B), 1 lot of cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects above and the Cherokee Nation, Oklahoma; Eastern Band of Cherokee Indians of North Carolina; and the United Keetowah Band of Cherokee Indians in Oklahoma (hereinafter referred to as “The Tribes”).

Additional Requestors and Disposition

Representatives of any other Indian tribe that believes itself to be culturally affiliated with the unassociated funerary objects should contact Dr. Thomas O. Maher, TVA, 400 West Summit Hill Drive, WT 11D, Knoxville, TN 37902-1401, telephone (865) 632-7458, before July 5, 2012. Repatriation of the unassociated funerary objects to The Tribes may proceed after that date if no additional claimants come forward.

The TVA is responsible for notifying The Tribes that this notice has been published.

Dated: May 30, 2012.
Sherry Hutt,
Manager, National NAGPRA Program.

[FR Doc. 2012-13452 Filed 6-1-12; 8:45 am]

BILLING CODE 4310-70-P